DEPARTMENT OF LABOR

Employment and Training Administration

[TA-W-82,598]

Amphenol Backplane Systems, Including On-Site Leased Workers From Technical Needs and National Engineering, Nashua, New Hampshire; Notice of Revised Determination on Reconsideration

On June 22, 2013, the Department of Labor (Department) issued a Notice of Affirmative Determination Regarding Application for Reconsideration applicable to workers and former workers of Amphenol Backplane Systems, Nashua, New Hampshire (hereafter referred to as either “Amphenol” or “subject firm”). The subject firm is engaged in activities related to the production of electrical connectors and backplane assemblies. The subject worker group includes on-site leased workers from Technical Needs and National Engineering.

Workers of the subject firm were eligible to apply for Trade Adjustment Assistance (TAA) under TA-W-70,972 (certification expired on November 13, 2011).

Based on a careful review of previously-submitted information and additional information obtained during the reconsideration investigation, the Department determines that the petitioning worker group, including on-site leased workers from Technical Needs and National Engineering, has met the eligibility criteria set forth in the Trade Act of 1974, as amended.

Section 222(a)(1) has been met because a significant number or proportion of the workers at Amphenol have become totally or partially separated, or are threatened to become totally or partially separated.

Section 222(a)(2)(B) has been met because the workers' firm has shifted to a foreign country a portion of the production of articles like or directly competitive with the electrical connectors and backplane assemblies produced by the subject worker group, which contributed importantly to worker group separations at Amphenol.

Conclusion

After careful review of previously-submitted facts and the additional facts obtained during the reconsideration investigation, I determine that workers of Amphenol Backplane Systems, Nashua, New Hampshire, meet the worker group certification criteria under Section 222(a) of the Act, 19 U.S.C. 2272(a). In accordance with Section 223 of the Act, 19 U.S.C. 2273, I make the following certification:

“All workers of Amphenol Backplane Systems, including on-site leased workers from Technical Needs and National Engineering, Nashua, New Hampshire, who became totally or partially separated from employment on or after March 16, 2012, through two years from the date of this certification, and all workers in the group threatened with total or partial separation from employment on date of certification through two years from the date of certification, are eligible to apply for adjustment assistance under Chapter 2 of Title II of the Trade Act of 1974, as amended.”

Signed in Washington, DC, this 8th day of November, 2013.
Del Min Amy Chen,
Certifying Officer, Office of Trade Adjustment Assistance.

[FR Doc. 2013-28334 Filed 11-25-13; 8:45 am]

BILLING CODE 4510-FN-P